DEPARTMENT OF ENERGY

Federal Energy Regulatory Commission

[Docket No. CP17-476-000]

Gulf South Pipeline Company, LP ; Notice of Schedule for Environmental Review of the Westlake Expansion Project

On July 20, 2017, Gulf South Pipeline Company, LP (Gulf South) filed an application in Docket No. CP17-476-000 requesting a Certificate of Public Convenience and Necessity pursuant to Section 7(c) of the Natural Gas Act to construct and operate facilities in Calcasieu Parish, Louisiana. The proposed project is known as the Westlake Expansion Project (Project) and would provide about 200 million cubic feet of natural gas per day to the proposed 980 megawatt natural gas-fired combined cycle electric generating plant near Westlake, Louisiana.

On July 31, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—February 27, 2018

90-day Federal Authorization Decision Deadline—May 29, 2018

If a schedule change becomes necessary, additional notice will be provided so that the relevant agencies are kept informed of the Project's progress.

Project Description

Gulf South proposes to construct and operate the following facilities as part of the Project in Calcasieu Parish, Louisiana:

• One new 10,000 horsepower compressor station (Westlake Compressor Station) and appurtenant facilities;

• approximately 1,600 feet of 16-inch-diamater natural gas pipeline lateral; and

• two new metering and regulating stations (Entergy Lake Charles and Varibus Meter and Regulator Stations).

Background

On August 30, 2017, the Commission issued a Notice of Intent to Prepare an Environmental Assessment for the Proposed Westlake Expansion Project and Request for Comments on Environmental Issues (NOI). The NOI was sent to affected landowners; federal, state, and local government agencies; elected officials; Native American tribes; environmental groups; and local libraries. In response to the NOI, the Commission received comments from the U.S. Environmental Protection Agency (EPA), the Louisiana Department of Wildlife and Fisheries (LDWF), Choctaw Nation of Oklahoma, three Louisiana state senators/representatives, the Southwest Louisiana Economic Development Alliance (SWLA), and the Calcasieu Parish Police Jury. The primary issues raised by the EPA and the LDWF are impacts on wetlands and wetland mitigation, waters of the United States, and construction and operational air quality impacts. The Choctaw Nation of Oklahoma requested to be a consulting party, be involved in the development of the Area of Potential Effect, and requested Project shapefiles, which Gulf South provided. The Louisiana state senators/representatives, SWLA, and the Calcasieu Parish Police Jury commented that they support the Project due to its potential economic benefits.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select “General Search” from the eLibrary menu, enter the selected date range and Docket Number excluding the last three digits (i.e., CP17-476), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 14, 2017.
Kimberly D. Bose,
Secretary.

[FR Doc. 2017-27368 Filed 12-19-17; 8:45 am]

BILLING CODE 6717-01-P